DEPARTMENT OF THE TREASURY

Submission for OMB Review; Comment Request

April 19, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 28, 2002, to be assured of consideration.

Bureau of Alcohol, Tobacco and Firearms (BATF)

OMB Number: 1512-0129.

Form Number: ATF F 4473 (5300.9) Part I.

Type of Review: Extension.

Title: Firearms Transaction Record, Part I, Over-The-Counter.

Description: The form is used to determine the eligibility (under the Gun Control Act) of a person to receive a firearm from a Federal firearms licensee. It is also used to establish the identity of the buyer. The form is also used in law enforcement investigations/inspection to trace firearms.

Respondents: Individuals or households, Business or other for-profit.

Estimated Number of Recordkeepers: 10,225,000.

Estimated Burden Hours Per Recordkeeper: 20 minutes.

Frequency of Response: On occasion.

Estimated Total Recordkeeping Burden: 3,408,333 hours.

OMB Number: 1512-0144.

Form Number: ATF F 2736 (5100.12) and ATF F 2737 (5100.67).

Type of Review: Extension.

Title: Specific and Continuing Transportation Bond-Distilled Spirits and/or Wines Withdrawn for Transportation to Manufacturing Bonded Warehouse—Class Six.

Description: ATF F 2736 (5100.12) and ATF F 2737 (5100.67) are specific bonds which protect the tax liability on distilled spirits and wine while in transit from one type of bonded facility to another. They identify the shipment, the parties, the date and the amount of bond coverage.

Respondents: Business or other for-profit.

Estimated Number of Respondents: 1.

Estimated Burden Hours Per Respondent: 1 hour.

Frequency of Response: On occasion.

Estimated Total Reporting Burden: 1 hour.

Clearance Officer: Jacqueline White, Bureau of Alcohol, Tobacco and Firearms, Room 3200, 650 Massachusetts Avenue, NW., Washington, DC 20226. (202) 927-8930.

OMB Reviewer: Alexander T. Hunt, Office of Management and Budget, Room 10202, New Executive Office Building, Washington, DC 20503. (202) 395-7860.

Lois K. Holland,
Departmental Reports Management Officer.

[FR Doc. 02-10250 Filed 4-25-02; 8:45 am]

BILLING CODE 4810-31-P